DEPARTMENT OF THE INTERIOR

Bureau of Reclamation

National Park Service

[RR02013000, XXXR5537F3, RX.19871110.1000000]

Notice of Extension of Public Comment Period for the Draft Environmental Impact Statement for Adoption of a Long-Term Experimental and Management Plan for the Operation of Glen Canyon Dam, Page, Arizona

AGENCY: Bureau of Reclamation and National Park Service, Interior.

ACTION: Notice of extension.

SUMMARY: The Department of the Interior, through the Bureau of Reclamation and the National Park Service, is extending the public comment period for the Draft Environmental Impact Statement (EIS) for Adoption of a Long-Term Experimental and Management Plan (LTEMP) for the Operation of Glen Canyon Dam to Monday, May 9, 2016. The Notice of Availability and Notice of Public Meetings for the Draft Environmental Impact Statement was published in the Federal Register on January 8, 2016 (81 FR 963). The public comment period for the Draft EIS was originally scheduled to end on Thursday, April 7, 2016.

DATES: Comments on the Draft EIS will be accepted until close of business on Monday, May 9, 2016.

ADDRESSES: You may submit written comments by the following methods:

• Web site: http://parkplanning.nps.gov/LTEMPEIS.

• Mail: Glen Canyon Dam LTEMP Draft EIS, Argonne National Laboratory, 9700 South Cass Avenue—EVS/240, Argonne, Illinois 60439.

Comments will not be accepted by facsimile, email, or in any other way than those specified above. Bulk comments in any format (hard copy or electronic) submitted on behalf of others will not be accepted.

FOR FURTHER INFORMATION CONTACT: Ms. Katrina Grantz, Chief, Adaptive Management Group, Bureau of Reclamation, kgrantz@usbr.gov, 801-524-3635; or Mr. Rob Billerbeck, National Park Service, Rob_P_Billerbeck@nps.gov, 303-987-6789.

SUPPLEMENTARY INFORMATION: In response to several requests for an extension, the Bureau of Reclamation and the National Park Service are extending the close of the public comment period for the Draft EIS to Monday, May 9, 2016.

Public Disclosure

Before including your address, phone number, email address, or other personal identifying information in your comment, you should be aware that your entire comment—including your personal identifying information—may be made publicly available at any time. While you can ask us in your comment to withhold your personal identifying information from public review, we cannot guarantee that we will be able to do so.

Dated: March 30, 2016.
Jennifer Gimbel,
Principal Deputy Assistant Secretary—Water and Science.
Michael Bean,
Principal Deputy Assistant Secretary—Fish and Wildlife and Parks.

[FR Doc. 2016-07761 Filed 4-4-16; 8:45 am]

BILLING CODE 4332-90-P